DEPARTMENT OF ENERGY

Federal Energy Regulatory Commission

Combined Notice of Filings #1

Take notice that the Commission received the following electric corporate filings:

Docket Numbers: EC24-41-000.

Applicants: Tri-State Generation and Transmission Association, Inc.

Description: Supplement to January 16, 2024, Application for Authorization Under Section 203 of the Federal Power Act of Tri-State Generation and Transmission Association, Inc.

Filed Date: 2/23/24.

Accession Number: 20240223-5239.

Comment Date: 5 p.m. ET 3/4/24.

Take notice that the Commission received the following exempt wholesale generator filings:

Docket Numbers: EG24-117-000.

Applicants: FL Solar 7, LLC.

Description: FL Solar 7, LLC submits Self-Certification of Exempt Wholesale Generator Status.

Filed Date: 2/26/24.

Accession Number: 20240226-5084.

Comment Date: 5 p.m. ET 3/18/24.

Docket Numbers: EG24-118-000.

Applicants: White Wing Ranch North, LLC.

Description: White Wing Ranch North, LLC submits Notice of Self-Certification of Exempt Wholesale Generator Status.

Filed Date: 2/26/24.

Accession Number: 20240226-5106.

Comment Date: 5 p.m. ET 3/18/24.

Take notice that the Commission received the following electric rate filings:

Docket Numbers: ER24-480-001.

Applicants: Alabama Power Company, Georgia Power Company, Mississippi Power Company.

Description: Tariff Amendment: Alabama Power Company submits tariff filing per 35.17(b): Minkar Energy Project (Minkar Solar) LGIA Deficiency Response to be effective 11/10/2023.

Filed Date: 2/26/24.

Accession Number: 20240226-5166.

Comment Date: 5 p.m. ET 3/18/24.

Docket Numbers: ER24-503-001.

Applicants: Greenleaf Energy Unit 2 LLC.

Description: Tariff Amendment: Deficiency Letter Response; Request Shortened Comment Period/Expedited Order to be effective 9/1/2023.

Filed Date: 2/26/24.

Accession Number: 20240226-5194.

Comment Date: 5 p.m. ET 3/18/24.

Docket Numbers: ER24-1318-000.

Applicants: Pelican Power LLC.

Description: Baseline eTariff Filing: Baseline new to be effective 12/31/9998.

Filed Date: 2/26/24.

Accession Number: 20240226-5142.

Comment Date: 5 p.m. ET 3/18/24.

Docket Numbers: ER24-1319-000.

Applicants: Southern California Edison Company.

Description: Tariff Amendment: Termination of GIA & DSA, Avatar Enterprises America SCE PPA (WDT1364/SA907-908) to be effective 4/27/2024.

Filed Date: 2/26/24.

Accession Number: 20240226-5149.

Comment Date: 5 p.m. ET 3/18/24.

Docket Numbers: ER24-1320-000.

Applicants: Orlando CoGen Limited, L.P.

Description: Tariff Amendment: Cancellation of Market Based Rate Tariff to be effective 2/27/2024.

Filed Date: 2/26/24.

Accession Number: 20240226-5164.

Comment Date: 5 p.m. ET 3/18/24.

Docket Numbers: ER24-1321-000.

Applicants: American Electric Power Service Corporation, PJM Interconnection, L.L.C.

Description: § 205(d) Rate Filing: American Electric Power Service Corporation submits tariff filing per 35.13(a)(2)(iii: AEP submits one Facilities Agreement re: ILDSA, No. 4234 to be effective 5/1/2024.

Filed Date: 2/26/24.

Accession Number: 20240226-5171.

Comment Date: 5 p.m. ET 3/18/24.

Docket Numbers: ER24-1322-000.

Applicants: Midcontinent Independent System Operator, Inc., Ameren Transmission Company of Illinois.

Description: § 205(d) Rate Filing: Midcontinent Independent System Operator, Inc. submits tariff filing per 35.13(a)(2)(iii: 2024-02-26_SA 3936 ATXI-Sikeston 1st Revised Construction Agreement to be effective 2/27/2024.

Filed Date: 2/26/24.

Accession Number: 20240226-5177.

Comment Date: 5 p.m. ET 3/18/24.

Docket Numbers: ER24-1323-000.

Applicants: San Juan Solar 1, LLC.

Description: § 205(d) Rate Filing: Revised Market-Based Rate Tariff Filing to be effective 4/27/2024.

Filed Date: 2/26/24.

Accession Number: 20240226-5180.

Comment Date: 5 p.m. ET 3/18/24.

Docket Numbers: ER24-1324-000.

Applicants: SJS 1 Storage, LLC.

Description: § 205(d) Rate Filing: Revised Market-Based Rate Tariff Filing to be effective 4/27/2024.

Filed Date: 2/26/24.

Accession Number: 20240226-5181.

Comment Date: 5 p.m. ET 3/18/24.

Docket Numbers: ER24-1326-000.

Applicants: Tucson Electric Power Company.

Description: § 205(d) Rate Filing: Service Agreement No. 541, Large Generator Interconnection Agreement to be effective 1/26/2024.

Filed Date: 2/26/24.

Accession Number: 20240226-5223.

Comment Date: 5 p.m. ET 3/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 26, 2024.
Debbie-Anne A. Reese,
Acting Secretary.

[FR Doc. 2024-04418 Filed 3-1-24; 8:45 am]

BILLING CODE 6717-01-P